COMMODITY FUTURES TRADING COMMISSION

Sunshine Act Meetings

AGENCY HOLDING THE MEETING: Commodity Futures Trading Commission. Sunshine Act Meetings.

TIME AND DATE: 10 a.m., Friday February 3, 2012.

PLACE: 1155 21st St., NW., Washington, DC, 9th Floor Commission Conference Room.

STATUS: Closed.

MATTERS TO BE CONSIDERED: Surveillance and Enforcement Matters. In the event that the times or dates of these or any future meetings change, an announcement of the change, along with the new time and place of the meeting will be posted on the Commission's Web site at http://www.cftc.gov.

CONTACT PERSON FOR MORE INFORMATION: Sauntia S. Warfield, (202) 418-5084.

Sauntia S. Warfield,
Assistant Secretary of the Commission.

[FR Doc. 2012-1772 Filed 1-24-12; 4:15 pm]

BILLING CODE 6351-01-P